INTERNATIONAL TRADE COMMISSION

[Investigation No. 337-TA-878]

Certain Electronic Devices Having Placeshifting or Display Replication Functionality and Products Containing Same; Institution of investigation pursuant to 19 U.S.C. 1337

AGENCY: U.S. International Trade Commission.

ACTION: Notice.

SUMMARY: Notice is hereby given that a complaint was filed with the U.S. International Trade Commission on March 12, 2013, under section 337 of the Tariff Act of 1930, as amended, 19 U.S.C. 1337, on behalf of Sling Media, Inc. of Foster City, California. The complaint alleges violations of section 337 based upon the importation into the United States, the sale for importation, and the sale within the United States after importation of certain electronic devices having placeshifting or display replication functionality and products containing same by reason of infringement of certain claims of U.S. Patent No. 7,877,776 (“the `776 patent”); U.S. Patent No. 8,051,454 (“the `454 patent”); U.S. Patent No. 8,060,909 (“the `909 patent”); U.S. Patent No. 7,725,912 (“the `912 patent”); U.S. Patent No. 8,266,657 (“the `657 patent”); and U.S. Patent No. 8,365,236 (“the `236 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: Docket Services, U.S. International Trade Commission, telephone (202) 205-1802.

Authority: The authority for institution of this investigation is contained in section 337 of the Tariff Act of 1930, as amended, and in section 210.10 of the Commission's Rules of Practice and Procedure, 19 CFR 210.10 (2012).

Scope of Investigation: Having considered the complaint, the U.S. International Trade Commission, on April 10, 2013, ordered that—

(1) Pursuant to subsection (b) of section 337 of the Tariff Act of 1930, as amended, an investigation be instituted to determine whether there is a violation of subsection (a)(1)(B) of section 337 in the importation into the United States, the sale for importation, or the sale within the United States after importation of certain electronic devices having placeshifting or display replication functionality and products containing same by reason of infringement of one or more of claims 18-24, 26, 28-30, 32-40, 42, and 43 of the `776 patent; claims 7, 9-12, 14, 15, and 17 of the `909 patent; claims 1, 2, 4, and 6-20 of the `454 patent; claims 58-68, 70, 71, 73, 74, 103, 104, 106, and 108 of the `912 patent; claim 81 of the `657 patent; and claims 1-8 and 15-20 of the `236 patent, and whether an industry in the United States exists as required by subsection (a)(2) of section 337;

(2) For the purpose of the investigation so instituted, the following are hereby named as parties upon which this notice of investigation shall be served:

(a) The complainant is:

Sling Media, Inc., 1051 East Hillsdale Boulevard, Suite 500, Foster City, CA 94404.

(b) The respondents are the following entities alleged to be in violation of section 337, and are the parties upon which the complaint is to be served:

Belkin International, Inc., 12045 East Waterfront Drive, Playa Vista, CA 90094.

Monsoon Multimedia, Inc., 1730 South Amphlett Boulevard, Suite 101, San Mateo, CA 94402.

C2 Microsystems, Inc., 2833 Junction Avenue, Suite 101, San Jose, CA 95134.

(3) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: April 11, 2013.
By order of the Commission.
Lisa R. Barton,
Acting Secretary to the Commission.

[FR Doc. 2013-08964 Filed 4-16-13; 8:45 am]

BILLING CODE 7020-02-P